EXPORT-IMPORT BANK

Sunshine Act Meetings; Withdrawal

ACTION: Notice of an open meeting of the Board of Directors of the Export-Import Bank of the United States; withdrawal.

SUMMARY: The Export-Import Bank of the United States published a document in the Federal Register of September 17, 2020 concerning a Sunshine Act meeting. The Notice provided incorrect information. A correct notice will be published immediately.

DATES: As of September 22, 2020, the notice published September 17, 2020, at 85 FR 58046, is withdrawn.

SUPPLEMENTARY INFORMATION: Original notice, found on pages: 58046-58047: Federal Register Citation: 85 FR 58046; FR Doc Number 2020-20626 contained incorrect information regarding the topic of the meeting and contact information. A correct notice will be published immediately.

Joyce B. Stone,
Assistant Corporate Secretary.

[FR Doc. 2020-21273 Filed 9-22-20; 4:15 pm]

BILLING CODE 6690-01-P